DEPARTMENT OF THE INTERIOR

Bureau of Land Management

[LLIDT000000.L11200000.DD0000.241A.00; 4500069133]

Notice of Public Meeting, Twin Falls District Resource Advisory Council, Idaho

AGENCY: Bureau of Land Management, Interior.

ACTION: Notice of public meetings.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will meet as indicated below.

DATES: The Twin Falls District RAC will meet September 14, 2016 at the Twin Falls District BLM Office, 2878 Addison Ave. E., Twin Falls, Idaho, 83301. The meeting will begin at 9:00 a.m. and end no later than 3:45 p.m. The public comment period will take place from 9:15 to 9:45 a.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the September 14th meeting, there will be travel management planning training, an overview of the 2016 fire season and the 40th anniversary of the Federal Land Policy Management Act along with field office updates. Additional topics may be added and will be included in local media announcements.

More information is available at www.blm.gov/id/st/en/res/resource_advisory.3.html. RAC meetings are open to the public.

Authority: 43 CFR 1784.4-1.

Michael C. Courtney,
BLM Twin Falls District Manager.

[FR Doc. 2016-20719 Filed 8-26-16; 8:45 am]

BILLING CODE 4310-GG-P